FEDERAL COMMUNICATIONS COMMISSION

Notice of Public Information Collection(s) Being Reviewed by the Federal Communications Commission for Extension Under Delegated Authority

February 28, 2007.

SUMMARY: The Federal Communications Commission, as part of its continuing effort to reduce paperwork burden, invites the general public and other Federal agencies to take this opportunity to comment on the following information collection(s), as required by the Paperwork Reduction Act of 1995 (PRA), Public Law 104-13. An agency may not conduct or sponsor a collection of information unless it displays a current valid control number. No person shall be subject to any penalty for failing to comply with a collection of information subject to the PRA that does not display a valid control number. Comments are requested concerning: (a) Whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written PRA comments should be submitted on or before May 7, 2007. If you anticipate that you will be submitting comments, but find it difficult to do so within the period of time allowed by this notice, you should advise the contact listed below as soon as possible.

ADDRESSES: Direct all PRA comments to Les Smith, Federal Communications Commission, Room 1-C216, 445 12th Street, SW., Washington, DC 20554, or via the Internet to PRA@fcc.gov.

FOR FURTHER INFORMATION CONTACT: For additional information or copies of the information collection(s) contact Les Smith at (202) 418-0217 or via the Internet at PRA@fcc.gov.

SUPPLEMENTARY INFORMATION: OMB Control Number: 3060-0655

Title: Requests for Waivers of Regulatory and Application Fees Predicated on Allegations of Financial Hardship.

Form Number: N/A

Type of Review: Extension of a currently approved collection.

Respondents: Business or other for-profit entities; and individuals or household.

Number of Respondents: 80.

Estimated Time per Response: 1.0 hour.

Frequency of Response: Recordkeeping; on occasion reporting requirements.

Obligation to Respond: Required to obtain or retain benefits.

Total Annual Burden: 80 hours.

Total Annual Cost: $0.00.

Nature and Extent of Confidentiality: Parties filing information may request that the information be withheld from disclosure. Requests for confidentiality are processed in accordance with FCC rules under 47 CFR 0.459. The FCC has a system of records notice, FCC/OMD-9, “Commission Registration System (CORES)” to cover the collection, use, storage, and destruction of personally identifiable information under the Privacy Act of 1974, as amended.

Privacy Act Impact Assessment: No.

Needs and Uses: Pursuant to 47 CFR part 159, the FCC is required to collect annual regulatory fees from its licensees and permittees. Licensees and permittees may request waivers of the annual regulatory and applications fees on grounds of financial hardship. The subject orders lists the types of documents or financial reports which are ordinarily maintained as business records or can be easily assembled, which may be submitted to support claims of financial hardship. The FCC use this information to determine if a party is entitled to the waiver.

Federal Communications Commission.
Marlene H. Dortch,
Secretary.

[FR Doc. E7-4036 Filed 3-6-07; 8:45 am]

BILLING CODE 6712-01-P